DEPARTMENT OF THE INTERIOR

Minerals Management Service

Agency Information Collection Activities: Proposed Collection; Comment Request

AGENCY: Minerals Management Service (MMS), Interior.

ACTION: Notice of new information collection.

SUMMARY: As part of its continuing effort to reduce paperwork and respondent burden, MMS invites the public and other Federal agencies to comment on a proposal for the new collection of information discussed below. We intend to submit this collection of information to the Office of Management and Budget (OMB) for approval. The Paperwork Reduction Act of 1995 provides that an agency may not conduct or sponsor, and a person is not required to respond to, a collection of information unless it displays a currently valid OMB control number.

DATES: Submit written comments by May 16, 2000.

ADDRESSES: Mail or hand carry comments to the Department of the Interior; Minerals Management Service; Attention: Rules Processing Team; Mail Stop 4024; 381 Elden Street; Herndon, Virginia 20170-4817. Our practice is to make comments, including names and home addresses of respondents, available for public review during regular business hours. Individual respondents may request that we withhold their home address from the rulemaking record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy of the collection of information at no cost.

SUPPLEMENTARY INFORMATION: Title: Survey—Public Information Offices (PIO).

OMB Control Number: 1010-NEW.

Abstract: The Outer Continental Shelf (OCS) Lands Act, 43 U.S.C. 1331 et seq., requires the Secretary of the Interior to preserve, protect, and develop offshore oil and gas and sulphur resources; make such resources available to meet the Nation's energy needs as rapidly as possible; balance orderly energy resource development with protection of the human, marine, and coastal environments; ensure the public a fair and equitable return on the resources of the OCS; preserve and maintain free enterprise competition; and ensure that the extent of oil and natural gas resources of the OCS is assessed at the earliest practicable time. MMS administers this program.

Executive Order 12862, September 11, 1993, Setting Customer Service Standards, provided renewed focus on surveying customers. The Executive Order states that customer satisfaction is seen as the ultimate performance indicator for the Federal Government because it shows how well our customers are being served and what we must do to close the gap between what we provide our customers and what they want. We included in our Government Performance Results Act Strategic Plan, a requirement to survey customers to validate our customer service/satisfaction performance. We have not conducted a survey of the regional PIOs for several years.

A goal included in the Strategic Plan requires the Offshore Minerals Management program to improve the level of service of its PIOs by 2003. The baseline for this improvement is FY 2000. To assess whether this goal has been met, we plan to conduct an annual customer satisfaction survey over the next 3 years. The first survey will probably include the most questions, and the results will provide the FY 2000 baseline for measuring achievement of this performance goal. The questions to be included in the subsequent surveys may be reduced, depending on the results from the baseline survey. MMS will use the information to improve services to its customers.

No proprietary data, confidential information, or items of a sensitive nature will be collected. Responses are voluntary.

Frequency: Annual survey.

Estimated Number and Description of Respondents: Approximately 4,100 MMS customers on regional mailing lists, including Federal OCS oil, gas, and sulphur lessees and operators.

Estimated Annual Reporting and Recordkeeping “Hour” Burden: We estimate 20-25 minutes to complete each survey, for a total annual burden of 427 hours. There are no recordkeeping requirements.

Estimated Annual Reporting and Recordkeeping “Non-Hour Cost” Burden: None.

Comments: We will summarize written responses to this notice and address them in our submission for OMB approval. We specifically solicit your comments on the following questions:

(a) Is the proposed collection of information necessary for us to properly perform our functions, and will it be useful?

(b) Is the estimate of the burden hours of the proposed collection reasonable?

(c) Do you have any suggestions that would enhance the quality, clarity, or usefulness of the information to be collected?

(d) Is there a way to minimize the information collection burden on respondents, including through the use of appropriate automated electronic, mechanical, or other forms of information technology?

MMS Information Collection Clearance Officer: Jo Ann Lauterbach, (202) 208-7744).

Dated: March 2, 2000.
E.P. Danenberger,
Chief, Engineering and Operations Division.

[FR Doc. 00-6662 Filed 3-16-00; 8:45 am]

BILLING CODE 4310-MR-W